NUCLEAR REGULATORY COMMISSION

Advisory Committee on Reactor Safeguards, Meeting of the Ad Hoc Subcommittee; Notice of Meeting

The Ad Hoc Subcommittee will hold a meeting on October 10-13, 2000, Room T-2B3, 11545 Rockville Pike, Rockville, Maryland.

The entire meeting will be open to public attendance.

The agenda for the subject meeting shall be as follows:

Tuesday, October 10, 2000—1:00 p.m. until the conclusion of business

The Ad Hoc Subcommittee will discuss its approach for reviewing the technical merits of the Differing Professional Opinion (DPO) issues associated with steam generator tube integrity, and developing comments and recommendations for consideration by the full Committee.

Wednesday, October 11, 2000—8:30 a.m. until the conclusion of business

The Ad Hoc Subcommittee will hear presentations by and hold discussions with the DPO author and other interested persons regarding the DPO issues, views on the adequacy of the staff's approach for resolving these issues, and remaining major issues of contention.

Thursday, October 12, 2000—8:30 a.m. until the conclusion of business

The Ad Hoc Subcommittee will hear presentations by and hold discussions with representatives of the NRC staff and other interested persons regarding the status of resolution of the DPO issues and related matters.

Friday, October 13, 2000—8:30 a.m. until the conclusion of business

The Ad Hoc Subcommittee will continue its discussion of the DPO issues with the staff and the DPO author, as needed, and will develop proposed comments and recommendations for consideration by the full Committee.

The purpose of this meeting is to gather information, analyze relevant issues and facts, and to formulate proposed positions and actions, as appropriate, for deliberation by the full Committee.

Oral statements may be presented by members of the public with the concurrence of the Subcommittee Chairman; written statements will be accepted and made available to the Committee. Electronic recordings will be permitted only during those portions of the meeting that are open to the public, and questions may be asked only by members of the Ad Hoc Subcommittee, its consultants, and staff. Persons desiring to make oral statements should notify the cognizant ACRS staff engineers named below five days prior to the meeting, if possible, so that appropriate arrangements can be made.

During the initial portion of the meeting, the Ad Hoc Subcommittee, along with any of its consultants who may be present, may exchange preliminary views regarding matters to be considered during the balance of the meeting.

The Ad Hoc Subcommittee will then hear presentations by and hold discussions with the DPO author, representatives of the NRC staff, and other interested persons regarding this review.

Further information regarding topics to be discussed, whether the meeting has been canceled or rescheduled, and the Chairman's ruling on requests for the opportunity to present oral statements and the time allotted therefor can be obtained by contacting either Mr. Sam Duraiswamy (telephone 301-415-7364) or Ms. Undine Shoop (telephone 301-415-8086) between 7:30 a.m. and 4:15 p.m. (EDT). Persons planning to attend this meeting are urged to contact the above named individuals one or two working days prior to the meeting to be advised of any potential changes to the agenda, etc., that may have occurred.

Dated: September 12, 2000.
James E. Lyons,
Associate Director for Technical Support, ACRS/ACNW.

[FR Doc. 00-24159 Filed 9-19-00; 8:45 am]

BILLING CODE 7590-01-P